DEPARTMENT OF COMMERCE

National Oceanic and Atmospheric Administration

[RTID 0648-XE405]

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Fish/Fisheries Conservation Lab at the University of South Carolina. If granted, the EFP would authorize the limited harvest of red hind during spawning events in U.S. Caribbean Federal waters around the U.S. Virgin Islands (USVI) and exempt that harvest from Federal area and seasonal closure regulations. The purpose of the EFP is to address critical gaps in red hind demographics and life history, which could help provide current, region-specific information for upcoming stock assessments for the species.

DATES: Comments must be received no later than December 9, 2024.

ADDRESSES: You may submit comments on the application, identified by NOAA-NMFS-2024-0127, by either of the following methods:

• Electronic Submission: Submit all electronic public comments via the Federal e-Rulemaking Portal. Visit https://www.regulations.gov and type NOAA-NMFS-2024-0127 in the Search box. Click the “Comment” icon, complete the required fields, and enter or attach your comments.

• Mail: Submit written comments to Sarah Stephenson, 263 13th Avenue South, St. Petersburg, FL 33701.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application may be obtained from the Southeast Regional Office website at https://www.fisheries.noaa.gov/southeast/caribbean-exempted-fishing-permits-efps.

FOR FURTHER INFORMATION CONTACT: Sarah Stephenson, 727-824-5305, Sarah.Stephenson@noaa.gov.

SUPPLEMENTARY INFORMATION: The EFP is requested under the authority of the Magnuson-Stevens Fishery Conservation and Management Act (16 U.S.C. 1801 et seq.), and regulations at 50 CFR 600.745(b) concerning exempted fishing.

The applicant requests authorization to harvest 60 red hind grouper (Epinephelus guttatus) from two managed marine areas in Federal waters off the USVI: Red Hind Spawning Aggregation Area (Lang Bank) east of St. Croix (50 CFR 622.479(a)(2)) and the Hind Bank Marine Conservation District (MCD) south of St. Thomas (50 CFR 622.514(a)(2)) for data collection. A maximum of 120 red hind would be harvested under the EFP. The applicant is seeking to gather life history information (e.g., age, growth, reproduction) that could be used in future stock assessments for red hind, which provide guidance and management recommendations specific to this species for NMFS, the Caribbean Fishery Management Council, and the U.S. Virgin Islands' Department of Fish and Wildlife.

The applicant was awarded funding through the Cooperative Research Program to complete critical gaps in red hind population demographics and life history in preparation for upcoming stock assessments in the U.S. Caribbean. In addition to collecting life history information for the species, the project aims to evaluate current Federal area and seasonal closures that protect red hind spawning aggregations through replication of previous sampling collections and analysis of temporal trends related to size-at-age, sex ratios, and size and age frequency distributions for red hind during spawning events. By targeting red hind spawning aggregations, the applicant will be better able to collect data that currently is not readily available on larger sized fish. Data collected from this project would be made available for use in future stock assessments for red hind in St. Croix and St. Thomas and St. John, which are tentatively scheduled for late 2025 and 2026.

Red hind would be collected by researchers and commercial fishermen aboard contracted commercial fishing vessels. If granted, the EFP would exempt project participants from area and seasonal closure regulations codified at 50 CFR 622.479(a)(2) (St. Croix) and 50 CFR 622.514(a)(2) (St. Thomas and St. John), as identified and described below. Pending issuance, the EFP would be expected to be effective from December 1, 2024, through March 1, 2025. The EFP would only apply to the captains and vessels that are selected to be a part of the project. Therefore, Fish/Fisheries Conservation Lab at the University of South Carolina would be able to account for and provide NMFS with a list of participants (e.g., state license, registration of each vessel and vessel name during designated fishing trips, name of participants and contact information, etc.) to be covered under the EFP before the project begins.

Activities under the EFP would consist of harvesting 60 red hind from the Lang Bank site east of St. Croix during the 4 days around the full moon for the months of January 2025 and February 2025, and 60 red hind from the MCD site south of St. Thomas during the 4 days around the full moon for the months of December 2024 and January 2025. During each sampling event (i.e., fishing day), commercial fishermen would use a maximum of four fishing rods, each with up to three hooks. All activities (a maximum of 16 fishing days) would occur in Federal waters, from depths of 82 to 246 feet (25 to 75 meters), while adrift (i.e., no anchoring would occur). Once the 60 red hind are obtained from each site, fishing activities would end.

The applicant would only target red hind. All other catch would be returned to the water using a descending device, if necessary, to ensure minimum harm. A total of 120 red hind would be retained under the EFP. Samples would be stored on ice and transported to a field lab. For each sample, the applicants would record standard length, fork length, and total length (to the nearest millimeter) and weight (to the nearest gram). Otoliths would be removed, rinsed, and stored for further processing. Gonads would be removed, weighed, and preserved. Eyes, muscle, stomachs, and fin clips would be collected and archived for future research on trophic ecology and population genomics.

Under the EFP, the applicant would be exempt from the closure regulations and allowed to fish for and harvest red hind in or from the (1) red hind spawning aggregation area east of St. Croix during the closure from December 1 through last day of February (50 CFR 622.479(a)(2)) and (2) Hind Bank Marine Conservation District closed area (50 CFR 622.514(a)(2)). A maximum of 8 fishing trips would occur in each site, 16 total during the project.

NMFS finds this application warrants further consideration based on a preliminary review. Possible conditions the agency may impose on the EFP, if granted, include but are not limited to, a prohibition on fishing within marine protected areas, marine sanctuaries, or special management zones without additional authorization, and requiring compliance with best practices in the event of interactions with any protected species.

A final decision on issuance of the EFP will depend on NMFS' review of public comments received on the application, consultations with appropriate fishery management agencies of the affected states, the Council, and the U.S. Coast Guard, and a determination that the activities to be taken under the EFP are consistent with all other applicable laws.

Authority: 16 U.S.C. 1801 et seq.

Dated: November 6, 2024.
Karen H. Abrams,
Acting Director, Office of Sustainable Fisheries, National Marine Fisheries Service.

[FR Doc. 2024-26184 Filed 11-12-24; 8:45 am]

BILLING CODE 3510-22-P